DEPARTMENT OF COMMERCE

International Trade Administration

[A-549-502]

Circular Welded Carbon Steel Pipes and Tubes from Thailand: Notice of Court Decision Not In Harmony with Final Results of Administrative Review

AGENCY: Import Administration, International Trade Administration, Department of Commerce.

SUMMARY: On May 16, 2006, the Court of International Trade (CIT) sustained the Department of Commerce's (Department's) redetermination regarding the 2002-2003 antidumping duty administrative review of certain welded carbon steel pipes and tubes (pipes and tubes) from Thailand. Pursuant to the Court's remand order, in its redetermination the Department deducted section 201 duties from export price in accordance with 19 U.S.C. § 1677a(c)(2)(A). Consistent with the decision of the United States Court of Appeals for the Federal Circuit (Federal Circuit) in The Timken Company v. United States and China National Machinery and Equipment Import and Export Corporation, 893 F.2d 337 (Fed. Cir. 1990) (Timken), the Department is publishing this notice of the CIT's decision which is not in harmony with the Department's determination in the 2002-2003 antidumping duty administrative review of pipes and tubes from Thailand.

EFFECTIVE DATE: May 26, 2006.

FOR FURTHER INFORMATION CONTACT: Jacqueline Arrowsmith or Dana Mermelstein, AD/CVD Operations, Office 6, Import Administration, Room 1870, International Trade Administration, U.S. Department of Commerce, 14th Street and Constitution Avenue, NW, Washington, DC 20230; telephone: (202) 482-5255 or (202) 482-1391, respectively.

SUPPLEMENTARY INFORMATION:

Background

On March 5, 2002, the President of the United States imposed safeguard duties on imports of certain steel products under Section 201 of the Trade Act of 1974. See Proclamation No. 7529, 67 FR 10553 (March 7, 2002) (section 201 duties). This proclamation mandated payment of a 15 percent duty on certain imported steel products from March 20, 2002, through March 19, 2003. Id. at 10590. These duties were applicable to the merchandise that is also subject to the antidumping duty order on pipes and tubes from Thailand.

On April 8, 2004, the Department issued the preliminary results of the administrative review covering the period March 1, 2002, through February 28, 2003. See Certain Welded Carbon Steel Pipes and Tubes from Thailand: Preliminary Results of Antidumping Duty Administrative Review, 69 FR 18539 (Preliminary Results). This administrative review involved one company, Saha Thai Steel Pipe Company, Ltd. (Saha Thai). For purposes of the preliminary results of review, the Department decided not to adjust U.S. price, pending the Department's final consideration of comments solicited in Antidumping Proceedings: Treatment of Section 201 Duties and CVD Duties, 68 FR 53104 (September 9, 2003), on the treatment of section 201 duties. The resulting antidumping duty margin was 2.00 percent. See Preliminary Results. In the final results of review, after considering the arguments of the parties, the Department followed the practice established in Stainless Steel Wire Rod from Republic of Korea: Final Results of Antidumping Duty Administrative Review, 69 FR 19153 (April 12, 2004) (Final Results) and did not deduct the section 201 duties from EP. The margin calculated for the final results was de minimis (0.17 percent). See Certain Welded Carbon Steel Pipes and Tubes from Thailand: Final Results of Antidumping Duty Administrative Review, 69 FR 61649 (October 20, 2004).

Before the court, the plaintiffs, domestic parties (Wheatland Tube Company and Allied Tube & Conduit Corporation), raised three issues - two related to section 201 duties - and one related to duty drawback. The Court affirmed the Department on two issues - the duty drawback and the adjustment to U.S. price for billing adjustments tied to the section 201 duties. Wheatland Tube Co. v. United States, 414 F. Supp. 2d. 1271 (CIT 2006). However, the Court overturned the Department's decision to treat section 201 duties in the same way it treats antidumping duties and directed the Department “to recalculate Saha Thai's dumping margin after deducting section 201 duties from EP (export price) in accordance with 19 U.S.C. § 1677a(c)(2)(A).” Id. At 1288.

On March 1, 2006, the Department filed the results of its redetermination pursuant the Court's remand. In the redetermination, the Department followed the Court's order and deducted the section 201 duties from export price. The resulting antidumping duty margin was 4.13 percent. On May 16, 2006, the Court sustained the Department's remand redetermination. Wheatland Tube Co. v. United States, Slip Op 06-71.

Notification

In its decision in Timken, the Federal Circuit held that, pursuant to 19 U.S.C. 1516a(e), the Department must publish notice of a CIT decision which is not “in harmony” with the Department's determination. The CIT's decision in Wheatland Tube Company regarding the 201 duties is not in harmony with the Department's determination in the final results of 2002-2003 antidumping duty administrative review of pipes and tubes from Thailand. Therefore, publication of this notice fulfils the Department's obligation under 19 U.S.C. 1516a(e). The Department will enforce the injunction still in place by continuing to suspend liquidation of any unliquidated entries, pending the expiration of the period to appeal the CIT's May 16, 2006, decision, or, if that decision is appealed, pending a final decision by the Federal Circuit. If the CIT decision becomes final and conclusive, the Department will issue amended final results and amended customs instructions.

This notice is issued and published in accordance with section 516A(c)(1) of the Act.

Dated: June 5, 2006.
David M. Spooner,
Assistant Secretary for Import Administration.

[FR Doc. E6-9124 Filed 6-9-06; 8:45 am]

BILLING CODE 3510-DS-S